DEPARTMENT OF THE INTERIOR

Bureau of Land Management

[OR-130-1020-PG; GP3-0061]

Call for Nominations for the Eastern Washington Resource Advisory Council

AGENCY: Bureau of Land Management (BLM).

ACTION: Notice of Resource Advisory Council call for nominations.

SUMMARY: The purpose of this notice is to solicit public nominations for the Bureau of Land Management (BLM) Eastern Washington Resource Advisory Council (RAC) that has an open position to represent environmental/conservation interests. This position will expire in 2006. The RAC provides advice and recommendations to the BLM and the USDA Forest Service on land use planning and management of public lands within their geographic areas. Public nominations will be considered for 60 days after the publication date of this notice.

The Federal Land Policy and Management Act (FLPMA) directs the Secretary of the Interior to involve the public in planning and issues related to management of lands administered by BLM.

Section 309 of FLPMA directs the Secretary to select 10- to 15-member citizen-based advisory councils that are established and authorized consistent with requirements of the Federal Advisory Committee Act (FACA). As required by the FACA, RAC membership must be balanced and representative of the various interests concerned with management of public lands.

Individuals may nominate themselves or others. Nominees for the Eastern Washington RAC must be residents of Washington. Nominees will be evaluated based on their education, training, experience, and their knowledge of the geographical area of the RAC. Nominees should have demonstrated a commitment to collaborative resource decision-making. All nominations submitted must include letters of reference from represented interests or organizations, a completed background information nomination form, as well as any other information that speaks to the nominee's qualifications.

DATES: All nominations should be received in the Oregon BLM State Office by March 24, 2003.

FOR FURTHER INFORMATION CONTACT: Pam Robbins: (503) 808-6306, pam_robbins@blm.gov, BLM State Office, 333 Southwest 1st Avenue, Portland, Oregon 97204.

Dated: January 17, 2003.
Joseph K. Buesing,
District Manager.

[FR Doc. 03-1594 Filed 1-23-03; 8:45 am]

BILLING CODE 4310-33-P